DEPARTMENT OF HEALTH AND HUMAN SERVICES

Centers for Disease Control and Prevention

CDC Town Hall Meeting Concerning Future Directions for the Regional Centers for Public Health Preparedness and Response

AGENCY: Centers for Disease Control and Prevention (CDC), Department of Health and Human Services (HHS).

ACTION: Notice of meeting.

SUMMARY: The Centers for Disease Control and Prevention (CDC), located within the Department of Health and Human Services (HHS), announces a town hall meeting regarding the history and future of CDC-funded public health preparedness and response centers.

DATES: The town hall meeting will be held on Wednesday, June 28, 2023, from 1 p.m. to 5 p.m. EDT.

ADDRESSES: The town hall meeting is a virtual meeting and is open to the public, limited only by the webcast lines available. Registration is required. For information about accessing the webcast, visit https://www.cdc.gov/orr/science/research.htm.

FOR FURTHER INFORMATION CONTACT: Mary Leinhos, Ph.D., Office of Readiness and Response, Centers for Disease Control and Prevention, 1600 Clifton Road NE, Mailstop H21-5, Atlanta, Georgia 30329-4018; Phone: (770) 488-8619; Email: CPROAR@CDC.gov.

SUPPLEMENTARY INFORMATION:

Purpose: The purpose of this town hall meeting is to provide an overview and discussion of CDC-funded public health preparedness and response centers including the Centers for Public Health Preparedness and Response (CPHPs, 2004-2010), Preparedness and Response Learning Centers (PERLCs, 2010-2015), and Preparedness and Response Research Centers (PERRCs, 2008-2013). CDC seeks public input on opportunities and challenges for designing and implementing a network of regional centers for public health preparedness and response consistent with section 319F of the Public Health Service Act (42 U.S.C. 247d-6), as amended by the Consolidated Appropriations Act, 2023, sec. 2231 (https://www.congress.gov/bill/117th-congress/house-bill/2617?r=1&s=3).

How town hall meeting input will be used: As appropriate, future funding opportunities will use input from town hall participants, including the following: (1) examples of past successful activities and strategies; (2) potential partnership opportunities between CDC and awardees; and (3) types of technical assistance that would benefit funded projects.

Matters to be considered: The agenda will include presentations and discussions on three topic areas: (1) strengths and limitations of past CPHP, PERLC, PERRC and similar programs; (2) new program priorities as directed by sec. 2231 of the Consolidated Appropriations Act, 2023; and (3) discussion of how best to meet state, territorial, local, and tribal public health preparedness and response needs in the design, implementation, and coordination of regional centers under the new Consolidated Appropriations Act, 2023, sec. 2231 language. There will be prepared presentations, discussions among presenters and panelists, and a period for questions and public comments. Agenda items are subject to change as priorities dictate.

Specific questions for the public to consider: The goal of the new Consolidated Appropriations Act, 2023, sec. 2231 language is to implement a network of regional centers for public health preparedness and response for the purpose of increasing uptake of evidence-based preparedness and response programs. What have we learned from past CPHP, PERLC, PERRC and similar programs that will increase opportunities to reach this goal? How might CDC and funded regional centers leverage other initiatives and partners to enhance the evidence base and its implementation? Section 319F requires award recipients to coordinate with state, local, and tribal health departments and officials, health care facilities, and health care coalitions. Are there other entities that could be engaged at the regional level that members of the public recommend be included or informed about this work? What are the greatest public health preparedness and response needs that should be addressed to support the goals of section 319F in the regions?

Background: CDC's Office of Readiness and Response is hosting the town hall meeting with invited speakers representing public health and healthcare preparedness partners nationwide including from academia, government, and national associations to address new authorization language requiring the establishment and maintenance of a network of regional centers for public health preparedness and response.

CDC commissioned the National Academies of Sciences, Engineering, and Medicine to address a longstanding need for a comprehensive, systematic review and grading of public health emergency preparedness and response (PHEPR) evidence for practice. The resulting 2020 consensus study report, Evidence-Based Practice for Public Health Emergency Preparedness and Response (https://doi.org/10.17226/25650), reviews the status of evidence on PHEPR practices and the improvements needed to advance the field and strengthen the PHEPR system. The report provides recommendations seeking to strengthen PHEPR research and support effective and sound evidence-based PHEPR practice.

Section 2231 of the Consolidated Appropriations Act, 2023 amended section 319F to incorporate new requirements and priorities for establishing or maintaining a network of Centers for Public Health Preparedness and Response, including coordination of activities with partners and implementation of evidence-informed or evidence-based PHEPR practices.

The discussion and feedback generated during the town hall will assist CDC in developing program guidance related to workplan development and overall structure of regional coordinating bodies. Ultimately, feedback will be used to inform the establishment and maintenance of a network of regional centers. Participants may provide individual feedback or perspectives. CDC is not seeking consensus advice or recommendations from participants.

Dated: June 9, 2023.
Tiffany Brown,
Executive Secretary, Centers for Disease Control and Prevention.

[FR Doc. 2023-12741 Filed 6-13-23; 8:45 am]

BILLING CODE 4163-18-P